DEPARTMENT OF THE INTERIOR

Bureau of Land Management

[ID-110-1430-EU; IDI-34411, IDI-34544, IDI-34545, IDI-35031, IDI-35035]

Notice of Intent To Prepare an Amendment to the Cascade Resource Management Plan

AGENCY: Bureau of Land Management, Interior.

ACTION: Notice of intent.

SUMMARY: In accordance with the National Environmental Policy Act of 1969 (NEPA, 42 U.S.C. 4321 et seq.) and the Federal Land Policy and Management Act of 1976 (FLPMA, 43 U.S.C. 1701 et seq.) the Bureau of Land Management (BLM) intends to prepare a Resource Management Plan (RMP) amendment to address offering the sale of public lands within Ada, Canyon, Payette, and Valley Counties, Idaho not currently identified for disposal.

DATES: The public scoping period for the proposal will commence with publication of this notice. Comments regarding this proposal must be submitted in writing to the address below within 30 days after the date of publication of this notice in the Federal Register.

ADDRESSES: Comments should be addressed to Rosemary Thomas, Four Rivers Field Manager, Boise District, Bureau of Land Management, 3948 Development Road, Boise, ID 83705.

FOR FURTHER INFORMATION CONTACT: For further information and/or to have your name added to our mailing list, contact Effie Schultsmeier, Four Rivers Realty Specialist, at the Boise District Office, 208-384-3357. Documents pertinent to this proposal may be examined at the Boise District Office.

SUPPLEMENTARY INFORMATION: The proposed RMP amendment and land sales involve approximately 2,056 acres of public land north of Star in Ada County, around Pickles Butte and north of Lake Lowell in Canyon County, east of Payette in Payette County, and within the city limits of Cascade in Valley County. The purpose of a portion of the sales in Canyon and Payette Counties is to provide land for purchase by the respective counties for important public objectives including expansion of the landfill at Pickles Butte, further development at Clay Peak Motorcycle Park, and various other recreation and public use opportunities. The other lands will be evaluated for sale as the tracts are difficult and uneconomic to manage as part of the public lands, some of which will serve to expand communities or provide economic development opportunities. As part of the RMP amendment, an Environmental Assessment (EA) will be prepared to analyze designation of the public land for disposal and sale of the land. Approximately 3,175 acres of additional lands which are currently identified for disposal in the Cascade RMP will also be evaluated for disposal via sale. Comments will be accepted throughout the RMP amendment and EA process. Prior to a sale offer, a Notice of Realty Action will be prepared and published in accordance with 43 CFR 2711.1-2. The plan amendment will fulfill the needs and obligations set forth by the National Environmental Policy Act (NEPA), the Federal Land Policy and Management Act (FLPMA), and BLM management policies. Comments, including names and street addresses of respondents, will be available for public review at the Boise District Office during regular business hours 8 a.m. to 4:30 p.m. Monday through Friday, except holidays, and may be published as part of the EA. Individual respondents may request confidentiality. If you wish to withhold your name or street address from public review or from disclosure under the Freedom of Information Act, you must state this prominently at the beginning of your written comment.

Such requests will be honored to the extent allowed by law. All submissions from organizations and businesses, and from individuals identifying themselves as representatives or officials of organizations or businesses, will be available for public inspection in their entirety.

Rosemary Thomas,
Four Rivers Field Manager.

[FR Doc. E6-343 Filed 1-12-06; 8:45 am]

BILLING CODE 4310-GG-P